DEPARTMENT OF DEFENSE

Department of the Army; Corps of Engineers;

Notice of Availability for the Draft Environmental Impact Statement/Environmental Impact Report for the Newhall Ranch Resource Management and Development Plan and Spineflower Conservation Plan, Los Angeles County, CA

AGENCY: Department of the Army—U.S. Army Corps of Engineers, DoD.

ACTION: Notice of Availability.

SUMMARY: The U.S. Army Corps of Engineers, Los Angeles District (Regulatory Division), in coordination with the California Department of Fish and Game, has completed a Draft Environmental Impact Statement/Environmental Impact Report (EIS/EIR) for the Newhall Ranch Resource Management and Development Plan and Spineflower Conservation Plan. The project proponent and landowner, The Newhall Land and Farming Company, requires a long-term Section 404 permit from the Corps of Engineers for permanent impacts to approximately 82.3 acres of waters of the United States, including 8.69 acres of wetlands, for the construction of various facilities in waters of the United States associated with the development of a new community composed of a broad range of residential, mixed-use and nonresidential land uses in the 12,000-acre project area located in Santa Clarita, Los Angeles County, California.

FOR FURTHER INFORMATION CONTACT: Questions or comments concerning the Draft EIS/EIR should be directed to Dr. Aaron O. Allen, Chief, North Coast Branch, Regulatory Division, U.S. Army Corps of Engineers, P.O. Box 532711, Los Angeles, CA 90053-2325, (805) 585-2148.

SUPPLEMENTARY INFORMATION: This Draft EIS/EIR has been filed with the Environmental Protection Agency to be published in the Federal Register. The review period for the Draft EIS/EIR will begin from the date of publishing the Notice of Availability in the Federal Register, which is on May 1, 2009. Please forward your comments for the Draft EIS/EIR to the contact listed above by June 25, 2009.

David J. Castanon,
Chief, Regulatory Division, Los Angeles District.

[FR Doc. E9-10160 Filed 5-1-09; 8:45 am]

BILLING CODE 3710-KF-P